DEPARTMENT OF COMMERCE

National Oceanic and Atmospheric Administration

RIN 0648-XC617

Mid-Atlantic Fishery Management Council (MAFMC); Public Meeting

AGENCY: National Marine Fisheries Service (NMFS), National Oceanic and Atmospheric Administration (NOAA), Commerce.

ACTION: Notice of a public meeting.

SUMMARY: The Scientific and Statistical Committee (SSC) of the Mid-Atlantic Fishery Management Council (Council) will hold a meeting.

DATES: The meeting will be held on Wednesday and Thursday, May 15-16, 2013. The meeting will begin at 9 a.m. on Wednesday, May 15 and conclude by 4 p.m. on Thursday, May 16.

ADDRESSES: The meeting will be held at Admiral Fell Inn, 888 S. Broadway, Baltimore, MD 21231; telephone: (410) 522-7377.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Agenda items for the SSC meeting include: review multi-year ABC specifications for Loligo and Illex squid and Atlantic mackerel; make ABC recommendation for Atlantic butterfish (2014-15); make multi-year ABC recommendations (2014-16) for surfclams and ocean quahogs; review criteria for establishing multi-year ABC recommendations; and establish research priorities for 2014.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: April 15, 2013.
Tracey L. Thompson,
Acting Deputy Director, Office of Sustainable Fisheries, National Marine Fisheries Service.

[FR Doc. 2013-09112 Filed 4-17-13; 8:45 am]

BILLING CODE 3510-22-P